DEPARTMENT OF AGRICULTURE

Office of the Secretary

Extension of Period To Submit Expression of Interest for Potential Sites for Headquarters Office Locations

AGENCY: Office of the Secretary, USDA.

ACTION: Notice.

SUMMARY: The U.S. Department of Agriculture (USDA) is extending the period for interested parties to submit an expression of interest for a proposed new headquarters location for the National Institute of Food and Agriculture (NIFA) and the Economic Research Service (ERS). The Department is extending the period to submit an expression of interest for 30 days.

DATES: The notice of a request to submit expression of interests published on Wednesday, August 15, 2018 is being extended. Interested parties wishing to submit an expression of interest should do so in writing by October 15, 2018.

ADDRESSES: Interested parties are invited to submit comments regarding this notice. All submissions must refer to “Expression of Interest” to ensure proper delivery.

• Electronic Submission of Expression of Interest. Interested persons may submit information electronically to the following email address relocation@usda.gov.

• Submission of Comments by Mail, Hand delivery, or Courier. Paper, disk, or CD-ROM submissions should be submitted to Donald K. Bice, Deputy Assistant Secretary, Office of the Assistant Secretary for Administration, USDA, Jamie L. Whitten Building, Room 240-W, 1400 Independence Ave. SW, Washington, DC 20250.

FOR FURTHER INFORMATION CONTACT: Donald K. Bice, Telephone Number: (202) 720-3291.

SUPPLEMENTARY INFORMATION: On Wednesday, August 15, 2018 (83 FR 40499), the Department published a notice of a request for expression of interest for potential sites for headquarters office locations for NIFA and ERS. USDA is interested in exploring options to house the headquarters of NIFA and ERS jointly or in separate locations. The original deadline to submit an expression of interest was September 14, 2018. This action extends the submission period for 30 days. Submissions must now be received on or before October 15, 2018.

Dated: September 7, 2018.
Donald K. Bice,
Deputy Assistant Secretary for Administration.

[FR Doc. 2018-19877 Filed 9-12-18; 8:45 am]

BILLING CODE 3410-90-P